LEGAL SERVICES CORPORATION

Sunshine Act Meetings

TIME AND DATE: The Legal Services Corporation (LSC) Board of Directors and its committees will hold their spring 2024 quarterly business meeting over a range of days in March-April 2024 (on March 25-26, April 2-3 and April 8, 2024). On Monday, March 25, the Audit Committee will meet over Zoom, beginning at 12:00 p.m. Eastern Time. On Tuesday, March 26, the Communications Subcommittee of the Institutional Advancement Committee will meet over Zoom, beginning at 3:30 p.m. Eastern Time, and the Governance and Performance Review Committee will meet over Zoom commencing promptly upon adjournment of the immediately preceding meeting. On Tuesday, April 2, the Operations & Regulations Committee will meet over Zoom, beginning at 2:00 p.m. Eastern Time, the Delivery of Legal Services Committee will meet over Zoom, commencing promptly upon adjournment of the immediately preceding meeting, and the Finance Committee will meet over Zoom, commencing promptly upon adjournment of the immediately preceding meeting. On Wednesday, April 3, the Institutional Advancement Committee will meet over Zoom, beginning at 11:00 a.m. Eastern Time. On Monday, April 8, the Combined Audit and Finance Committees will meet in person and over Zoom, beginning at 8:00 a.m. Eastern Time, and the LSC Board of Directors will meet in person and over Zoom commencing promptly upon adjournment of the immediately preceding meeting.

PLACE:

Public Notice of Virtual and Hybrid Meetings. LSC will conduct its March 25-26 and April 2-3 committee meetings virtually via Zoom video conference. LSC will conduct its April 8, 2024 meetings at the Omni Shoreham Hotel, 2500 Calvert Street NW, Washington, DC 20008, and virtually via Zoom video conference.

Public Observation: Unless otherwise noted herein, the Board meeting will be open to in-person public observation and all committee meetings plus the Board meeting will be open to virtual public observation via Zoom video conference. Members of the public who wish to participate virtually in the public proceedings may do so by following the directions provided below.

Directions for Open Sessions

Monday, March 25, 2024

To join the Zoom meeting by computer, please use this link.

• https://lsc-gov.zoom.us/j/89368335636?pwd=AhQwhbKVXGufA7ghx7ZTRIbu2vIcab.1&from=addon

○ Meeting ID: 893 6833 5636

○ Passcode: 392878

Tuesday, March 26, 2024

To join the Zoom meeting by computer, please use this link.

• https://lsc-gov.zoom.us/j/83371345770?pwd=f6lSmkaTiIlLStbZkOBdmdXjlIzxug.1&from=addon

○ Meeting ID: 833 7134 5770

○ Passcode: 420050

Tuesday, April 2, 2024

To join the Zoom meeting by computer, please use this link.

• https://lsc-gov.zoom.us/j/84746108616?pwd=QeNfR0PuYKzKYAhcZXztOu6Pxfvh0X.1

○ Meeting ID: 847 4610 8616

○ Passcode: 208980

Wednesday, April 3, 2024

To join the Zoom meeting by computer, please use this link.

• https://lsc-gov.zoom.us/j/89029063077?pwd=VQc8Qn030zBFaxWESh3VUWF6kt6jw9.1&from=addon

○ Meeting ID: 890 2906 3077

○ Passcode: 438294

Monday, April 8, 2024

To join the Zoom meeting by computer, please use this link.

• https://lsc-gov.zoom.us/j/85650576111?pwd=OP70wffMQHtS9Zohf0r5ffn2c6jvMW.1

○ Meeting ID: 856 5057 6111

○ Passcode: 422251

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open, except as noted below.

Audit Committee—Open, except that, upon a vote of the Committee, the meeting may be closed to the public for a briefing by the Office of Compliance and Enforcement on active enforcement matter(s) and follow-up open investigation referrals from the Office of Inspector General.

Governance and Performance Review Committee—Open, except that, upon a vote of the Committee, the meeting may be closed to the public to discuss a report on evaluations of Vice President for Grants Management, Vice President for Government Relations & Public Affairs, Vice President for Legal Affairs and General Counsel, and Chief Financial Officer and Treasurer.

Institutional Advancement Committee—Open, except that, upon a vote of the Committee, the meeting may be closed to the public to receive an update on LSC's 50th Anniversary Fundraising Campaign and to consider and act on the motion to approve Leaders Council and Emerging Leaders Council members.

Combined Audit and Finance Committees—Open, except that, upon a vote of the Committee, the meeting may be closed to the public to receive a management briefing on Fiscal Year 2023 Annual Financial Audit, have the opportunity to ask auditors questions without Management present, and receive a briefing by the corporate auditor with those charged with governance under Statement on Auditing Standard 114.

Board of Directors—Open, except that, upon a vote of the Board of Directors, a portion of the meeting may be closed to the public to receive briefings by management and the Inspector General and to consider and act on General Counsel's report on potential and pending litigation involving LSC as well as a list of prospective Leaders Council and Emerging Leaders Council members.

Any portion of the closed session consisting solely of briefings does not fall within the Sunshine Act's definition of the term “meeting” and, therefore, the requirements of the Sunshine Act do not apply to such portion of the closed session.¹

¹ 5 U.S.C. 552b(a)(2) and (b). See also 45 CFR 1622.2 & 1622.3.

A verbatim written transcript will be made of the closed sessions of the Audit Committee, Governance and Performance Review Committee, Institutional Advancement Committee, Combined Audit and Finance Committees and Board of Directors meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule

Monday, March 25, 2024

Start Time: 12 p.m. Eastern Time

Audit Committee

Portions Open to the Public

1. Approval of Agenda

2. Approval of Minutes of the Committee's Open Session Meeting on January 22, 2024

3. Update on reassessment of the Committee's Charter (Audit Committee Charter § D (2))

4. Briefing by the Office of Inspector General (ACC § VIII A (3) and (ACC § VIII A (4)), to include:

a. IG update on key plans and priorities,

b. Highlights of audit insights, recently completed work, ongoing work, and planned work for the next quarter, and

c. Highlights of investigative insights, recently completed work, ongoing work, and planned work planned oversight work for the next quarter.

5. Management Update Regarding Risk Management

6. Briefing about Follow-up by the Office of Compliance and Enforcement on Referrals by the Office of Inspector General Regarding Audit Reports and Annual Financial Statement Audits of Grantees (ACC § VIII A (5))

7. Public Comment

8. Consider and Act on Other Business

9. Consider and Act on Motion to Adjourn the Open Session Meeting and Proceed to a Closed Session Meeting

Portions Closed to the Public

10. Approval of Minutes of the Committee's Closed Session Meeting on January 22, 2024

11. Briefing by the Office of Compliance and Enforcement on Active Enforcement Matter(s) and Follow-Up on Open Investigation Referrals from the Office of Inspector General (ACC § VIII A (5))

12. Consider and Act on Motion to Adjourn the Meeting

Tuesday, March 26, 2024

Start Time: 3:30 p.m. Eastern Time

Communications Subcommittee of the Institutional Advancement Committee

Portions Open to the Public

1. Approval of Agenda

2. Approval of Minutes of the Subcommittee's Open Session Meeting on January 23, 2023

3. Communications and Social Media Update

4. Public Comment

5. Consider and Act on Other Business

6. Consider and Act on Motion to Adjourn the Meeting

Tuesday, March 26, 2024

Start Time: 4 p.m. Eastern Time

Governance and Performance Review Committee

Portions Open to the Public

1. Approval of Agenda

2. Approval of Minutes of the Committee's Open Session Meeting on January 22, 2024

3. Public Comment

4. Consider and Act on Other Business

5. Consider and Act on Motion to Adjourn the Open Session Meeting and Proceed to a Closed Session

Portions Closed to the Public

6. Report on Evaluations of Vice President for Grants Management, Vice President for Government Relations & Public Affairs, Vice President for Legal Affairs and General Counsel, and Chief Financial Officer and Treasurer

7. Consider and Act on Motion to Adjourn the Meeting

Tuesday, April 2, 2024

Start Time: 2 p.m. Eastern Time

Operations and Regulations Committee

Portions Open to the Public

1. Approval of agenda

2. Approval of minutes of the Committee's Open Session meeting on January 21, 2024

3. Consider and Act on Justification Memo/Notice of Proposed Rulemaking for 45 CFR part 1607—Governing Bodies

4. Consider and Act on Final Rule for 45 CFR part 1638—Restriction on Solicitation

5. Consider and Act on 2024-2025 Rulemaking Agenda

6. Briefing on Request for Information for 45 CFR parts 1621—Client Grievance Procedures and 1624—Prohibition Against Discrimination on the Basis of Disability

7. Public comment

8. Consider and act on other business

9. Consider and act on adjournment of meeting

Tuesday, April 2, 2024

Start Time: 3 p.m. Eastern Time

Delivery of Legal Services Committee

Portions Open to the Public

1. Approval of Agenda

2. Approval of Minutes of the Committee's Open Session meeting on January 22, 2024

3. LSC Performance Criteria Revisions Update & Timeline

4. Presentation on LSC Grantee Oversight and Compliance

5. Public Comment

6. Consider and Act on Other Business

7. Consider and Act on a Motion to Adjourn the Meeting

Tuesday, April 2, 2024

Start Time: 4 p.m. Eastern Time

Finance Committee

Portions Open to the Public

1. Approval of Agenda

2. Approval of the Minutes of the Committee's Open Session Meeting on January 21, 2024

3. Approval of Minutes of the Committee's Closed Session Meeting on January 21, 2024

4. Consider and Act on Resolution #2024-XXX: Approving Consolidated Operating Budget for Fiscal Year 2024

5. Discussion of LSC's FY 2025 Appropriations Request

6. Discussion Regarding Process and Timetable for FY 2026 Budget Request

7. Public Comment

8. Consider and Act on Other Business

9. Consider and Act on Motion to Adjourn the Meeting

Wednesday, April 3, 2024

Start Time: 11 a.m. Eastern Time

Institutional Advancement Committee

Portions Open to the Public

1. Approval of Agenda

2. Approval of Minutes of the Institutional Advancement Committee's Open Session Meeting on January 23, 2024

3. Update on Leaders Council and Emerging Leaders Council

4. Development Report

5. Update on Opioid and Veterans Task Forces

6. Update on 50th Anniversary Celebration, April 8-9, in Washington, DC

7. Public Comment

8. Consider and Act on Other Business

9. Consider and Act on Motion to Adjourn the Open Session Meeting and Proceed to a Closed Session

Portions Closed to the Public

10. Approval of Minutes of the Institutional Advancement Committee's Closed Session Meeting on January 23, 2024

11. Update on LSC's 50th Anniversary Fundraising Campaign

12. Consider and Act on Motion to Approve Leaders Council and Emerging Leaders Council Invitees

13. Consider and Act on Other Business

14. Consider and Act on Motion to Adjourn the Meeting

Monday, April 8, 2024

Start Time: 8 a.m. Eastern Time

Combined Audit and Finance Committees

Portions Open to the Public

1. Approval of Agenda

2. Presentation of Fiscal Year 2023 Annual Financial Audit

3. Consider and Act on Motion to Suspend the Open Session Meeting and Proceed to a Closed Session

Portions Closed to the Public

4. Management Briefing on Fiscal Year 2023 Annual Financial Audit

5. Opportunity to Ask Auditors Questions without Management Present

6. Communication by Corporate Auditor with those Charged with Governance Under Statement on Auditing Standard 114

7. Consider and Act on Motion to Adjourn the Closed Session Meeting and Resume the Open Session Meeting

Portions Open to the Public

8. Consider and Act on Resolution #2024-XXX, Acceptance of Draft Audited Financial Statements for Fiscal Year 2023 and Fiscal Year 2022

9. Public Comment

10. Consider and Act on Other Business

11. Consider and Act on Motion to Adjourn the Meeting

Monday, April 8, 2024

Start Time: Commencing Promptly Upon Adjournment of the Preceding Meeting (Eastern Time)

Board of Directors Meeting

Portions Open to the Public

1. Pledge of Allegiance

2. Approval of Agenda

3. Approval of Minutes of the Board's Open Session Meeting on January 23, 2024

4. Chairman's Report

5. Members' Reports

6. President's Report

7. Inspector General's Report

8. Consider and Act on the Report of the Audit Committee (Meeting held on March 25)

9. Consider and Act on the Report of the Governance and Performance Review Committee (Meeting held March 26)

10. Consider and Act on the Report of the Operations and Regulations Committee (Meeting held April 2)

11. Consider and Act on the Report of the Delivery of Legal Services Committee (Meeting held April 2)

12. Consider and Act on the Report of the Finance Committee (Meeting held April 2)

13. Consider and Act on Resolution #2024-XXX: Approving Consolidated Operating Budget for Fiscal Year 2024

14. Consider and Act on the Report of the Institutional Advancement Committee (Meeting held April 3)

15. Consider and Act on the Report of the Combined Audit and Finance Committees (Meeting held April 8)

16. Consider and Act on Resolution #2024-XXX, Acceptance of Draft Audited Financial Statements for Fiscal Year 2023 and Fiscal Year 2022

17. Update on 50th Anniversary Celebration, April 8-9, in Washington, DC

18. Public Comment

19. Consider and Act on Other Business

20. Consider and Act on Whether to Authorize a Closed Session of the Board to Address Items Listed Below

Portions Closed to the Public

21. Approval of Minutes of the Board's Closed Session Meeting on January 23, 2024

22. Management Briefing

23. Inspector General's Briefing

24. Consider and Act on General Counsel's Report on Potential and Pending Litigation Involving Legal Services Corporation

25. Consider and Act on List of Prospective Leaders Council and Emerging Leaders Council Invitees

26. Consider and Act on Motion to Adjourn the Meeting

CONTACT PERSON FOR MORE INFORMATION: Jessica Wechter, Special Assistant to the President, (202) 295-1626. Questions may also be sent by email to wechterj@lsc.gov.

Non-Confidential Meeting Materials: Please refer to the LSC website (https://www.lsc.gov/events/board-committee-meetings) for the final meeting agendas and materials in electronic format. Non-confidential meeting materials will be made available in electronic format at least 24 hours in advance of the meeting on the LSC website.

(Authority: 5 U.S.C. 552b.)

Dated: March 15, 2024.
Stefanie Davis,
Deputy General Counsel & Ethics Officer, Legal Services Corporation.

[FR Doc. 2024-05902 Filed 3-15-24; 4:15 pm]

BILLING CODE 7050-01-P